DEPARTMENT OF COMMERCE

Foreign-Trade Zones Board

[Order No. 1291]

Approval for Expansion of Subzone 33C, Sony Technology Center—Pittsburgh (Television Manufacturing Facility), Mount Pleasant, PA

Pursuant to its authority under the Foreign-Trade Zones Act of June 18, 1934, as amended (19 U.S.C. 81a-81u), the Foreign-Trade Zones Board (the Board) adopts the following Order:

Whereas, the Regional Industrial Development Corporation of Southwestern Pennsylvania, grantee of FTZ 33, has requested authority on behalf of Sony Technology Center—Pittsburgh (Sony), to expand the scope of authority under zone procedures within the Sony facility in Mt. Pleasant, Pennsylvania (FTZ Docket 56-2002, filed 12/2/2002);

Whereas, notice inviting public comment has been given in the Federal Register (67 FR 72915, 12/9/02);

Whereas, the Board adopts the findings and recommendations of the examiner's report, and finds that the requirements of the FTZ Act and Board's regulations are satisfied, and that approval of the application is in the public interest;

Now, Therefore, the Board hereby orders:

The application to expand the scope of authority under zone procedures within Subzone 33C, is approved, subject to the FTZ Act and the Board's regulations, including 400.28.

Signed at Washington, DC, this 21st day of August 2003.
Jeffrey May,
Acting Assistant Secretary for Import Administration, Alternate Chairman, Foreign-Trade Zones Board.

[FR Doc. 03-22438 Filed 9-2-03; 8:45 am]

BILLING CODE 3510-DS-P